DEPARTMENT OF ENERGY

Federal Energy Regulatory Commission

[Docket Nos. CP15-115-000; CP15-115-001]

National Fuel Gas Supply Corporation, Empire Pipeline, Inc.; Notice of Schedule for Environmental Review of the Northern Access 2016 Project

On March 17, 2015, National Fuel Gas Supply Corporation (National Fuel) and Empire Pipeline, Inc. (Empire) (collectively referred to as National Fuel) filed an application in Docket No. CP15-115-000 requesting a Certificate of Public Convenience and Necessity pursuant to Section 7(c) of the Natural Gas Act to construct and operate certain natural gas pipeline facilities in Pennsylvania and New York. National Fuel amended its application on November 4, 2015. The proposed project is known as the Northern Access 2016 Project (Project), and would expand the National Fuel pipeline system to provide 497,000 dekatherms per day of new firm natural gas transportation capacity and the Empire pipeline system to provide 350,000 dekatherms per day of new firm natural gas transportation capacity.

On March 27, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—July 27, 2016

90-day Federal Authorization Decision Deadline—October 25, 2016

If a schedule change becomes necessary, additional notice will be provided so that the relevant agencies are kept informed of the Project's progress.

Project Description

The Project involves the construction and operation of certain facilities to provide natural gas transportation service from a receipt point in McKean County, Pennsylvania to an existing Empire pipeline system in Niagara County, New York.

National Fuel's proposed facilities include: Installation of about 96.9 miles of new 24-inch-diameter natural gas pipeline in McKean County, Pennsylvania and Cattaraugus and Erie Counties, New York; modifications at the existing Porterville Compressor Station in Erie County; addition or modification of interconnect/tie-in facilities; addition of 13 mainline valve sites; and cathodic protection facilities.

Empire's proposed facilities in Niagara County include: The new Pendleton Compressor Station; 2.1 miles of new 24-inch-diameter pipeline for the compressor station; the new Wheatfield Dehydration Facility; construction/modification of tie-in facilities; and removal of an existing meter and odorizer station.

Background

On October 22, 2014, the Commission issued a Notice of Intent to Prepare an Environmental Assessment for the Planned Northern Access 2016 Project and Request for Comments on Environmental Issues, and Notice of Public Scoping Meetings (NOI). The NOI was issued during the pre-filing review of the Project in Docket No. PF14-18-000. On April 29, 2015, the Commission issued a supplemental NOI for the newly identified locations for the Pendleton Compressor Station and Wheatfield Dehydration Facility. After National Fuel filed a new site for the Pendleton Compressor Station in the amended docket, the Commission issued an additional supplemental NOI on November 19, 2015.

The NOIs were sent to affected landowners; federal, state, and local government agencies; elected officials; environmental and public interest groups; Native American tribes; other interested parties; and local libraries and newspapers. In response to the NOI, the Commission received comments from U.S. Environmental Protection Agency; U.S. Fish and Wildlife Service; New York State Department of Environmental Conservation; New York Office of Parks, Recreation & Historic Preservation; and numerous individuals and landowners. The primary issues raised by the commentors include potential impacts on wetlands; waterbodies; forested areas; groundwater; threatened and endangered species; socioeconomic; land use and recreational; air quality; noise; safety; and potential cumulative impacts.

The U.S. Army Corps of Engineers and the New York Department of Agriculture and Markets are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-115), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: April 14, 2016.
Kimberly D. Bose,
Secretary.

[FR Doc. 2016-09091 Filed 4-19-16; 8:45 am]

BILLING CODE 6717-01-P